DEPARTMENT OF AGRICULTURE

Forest Service

Grand Mesa, Uncompahgre, and Gunnison National Forests; Gunnison County; Colorado; Crested Butte Mountain Resort Ski Area Projects

AGENCY: Forest Service, USDA.

ACTION: Notice of intent to prepare an environmental impact statement.

SUMMARY: Crested Butte Mountain Resort (CBMR) has submitted a proposal to the Grand Mesa, Uncompahgre, and Gunnison (GMUG) National Forests (NF) to pursue approval of select projects from its 2013 Master Development Plan (MDP). The GMUG has accepted this proposal and is initiating the preparation of an Environmental Impact Statement (EIS) to analyze and disclose the potential environmental effects of implementing the projects. The Proposed Action includes: A Special Use Permit (SUP) boundary adjustment to include skiable terrain in the Teo Drainage area, the addition of lift-served terrain in the Teo Park and Teo Drainage area, installation of additional snowmaking infrastructure, realignment of the existing North Face lift, and supplemental mountain biking trails.

DATES: Comments concerning the scope of the analysis must be received by December 7, 2015. Two public open houses regarding this proposal will be held: One on November 18, 2015 from 5-8 p.m.; and one on November 19, 2015 from 5-8 p.m. (See the SUPPLEMENTARY INFORMATION section for further information on the open houses). The draft environmental impact statement is expected to be available for public review in November 2016, and the final environmental impact statement is expected June 2017.

ADDRESSES: Send written comments to: Scott Armentrout, Forest Supervisor, c/o Aaron Drendel, Recreation Staff Officer, Gunnison Ranger District, Grand Mesa, Uncompahgre, and Gunnison National Forests, 216 N. Colorado St., Gunnison, CO 81230; FAX (970) 642-4425 or by email to: cbmr@fs.fed.us (please include “CBMR EIS Projects” in the subject line).

FOR FURTHER INFORMATION CONTACT: Additional information related to the proposed project can be obtained from: Aaron Drendel, Recreation Staff Officer, Gunnison Ranger District. Mr. Drendel can be reached by phone at (970) 641-0471 or by email at adrendel@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Forest Service is responding to an application submitted under the National Forest Ski Area Permit Act of 1986 and Ski Area Recreational Opportunity Enhancement Act of 2011 (SAROEA) by CBMR to implement projects from their accepted MDP. In the MDP, CBMR identified a deficiency in developed intermediate/advanced terrain compared with CBMR's skier and rider market. It also noted a slight deficit of developed expert terrain. The MDP also identifies a need to enhance summer recreation activities (consistent with the SAREOEA) in order to meet increasing guest expectations.

The GMUG, through acceptance of CBMR's Master Development Plan, has identified a need to:

• Meet increased public demand for developed intermediate, advanced, and expert terrain skiing terrain by developing the main mountain;

• Develop the total amount of developed and undeveloped terrain and ski pods, with an emphasis on intermediate and advanced skiers, in order to increase the skiing opportunities for the guests and thereby increase their length of stay;

• Provide an expanded offering of additional recreational activities for year-round utilization of existing facilities, consistent with summer use impact zones in the MDP;

• Continue to increase the quality of the facilities to meet the ever-increasing expectations of the local, regional, and destination skier markets; and

• Improve skier circulation and opportunities by realigning the North Face Lift and adding snowmaking infrastructure.

Proposed Action

The Proposed Action includes the following six elements:

• SUP boundary adjustment and amendment to the 1991 GMUG National Forests' Amended Land and Resource Management Plan;

• Construction of new intermediate and advanced ski trails and glades in Teo Park and Teo Drainage;

• Construction of two new lifts (Teo Drainage, and Teo Park), and realignment of the existing North Face lift;

• New snowmaking infrastructure on the following existing trails: Championship, Black Eagle, Lower Gallowich, Rachel's, and Shep's Chute;

• Construction of approximately 2,300 feet of new road and 450 feet of realigned road for construction and maintenance access; and

• Construction of approximately 15 miles of multi-use and mountain biking trails.

A full description of each element can be found at: www.crestedbutte-eis.com.

Responsible Official

The Responsible Official is Scott Armentrout, Forest Supervisor for the GMUG.

Nature of Decision To Be Made

Given the purpose and need, the Responsible Official will review the proposed action, the other alternatives, and the environmental consequences in order to decide the following:

• Whether to approve, approve with modifications, or deny the application for additional ski area improvements and associated activities.

• Whether to prescribe conditions needed for the protection of the environment on NFS lands.

• Whether or not to approve a site-specific Forest Plan Amendment changing the management area boundaries for the expansion.

Permits or Licenses Required

Forest Service Special Use Permit (SUP)

Scoping Process

This notice of intent initiates the scoping process, which guides the development of the environmental impact statement. The Forest Service is soliciting comments from Federal, State and local agencies and other individuals or organizations that may be interested in or affected by implementation of the proposed projects. Two public open houses regarding this proposal will be held: one at the Fred R. Field Western Heritage Center located at 275 S. Spruce Street, Gunnison, CO 81230 on November 18, 2015 from 5-8 p.m.; and one at the Ballrooms at the Lodge at Mountaineer Square, 620 Gothic Road, Crested Butte, CO 81225 on November 19, 2015 from 5-8 p.m. Representatives from the GMUG and CBMR will be present to answer questions and provide additional information on this project.

To be most helpful, comments should be specific to the project area and should identify resources or effects that should be considered by the Forest Service. Submitting timely, specific written comments during this scoping period or any other official comment period establishes standing for filing objections under 36 CFR part 218, subparts A and B. Additional information and maps of this proposal can be found at: www.crestedbutte-eis.com.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: October 26, 2015.
Scott Armentrout,
Forest Supervisor.

[FR Doc. 2015-27718 Filed 11-4-15; 8:45 am]

BILLING CODE 3411-15-P